DEPARTMENT OF HEALTH AND HUMAN SERVICES

National Institutes of Health

Eunice Kennedy Shriver National Institute of Child Health & Human Development Amended; Notice of Meeting

Notice is hereby given of a change in the meeting of the Function, Integration, and Rehabilitation Sciences Subcommittee, June 24, 2020, 8:00 a.m. to June 25, 2020, 05:00 p.m., NICHD Offices, 6710B Rockledge Drive, Bethesda, MD 20892 which was published in the Federal Register on April 06, 2020, 85 FR 19154.

The starting date and time for this meeting have changed from June 24, 2020, 08:00 a.m. to June 25, 2020, 10:00 a.m. The meeting is closed to the public.

Dated: June 16, 2020.
Ronald J. Livingston, Jr.,
Program Analyst, Office of Federal Advisory Committee Policy.

[FR Doc. 2020-13325 Filed 6-19-20; 8:45 am]

BILLING CODE 4140-01-P